DEPARTMENT OF COMMERCE

National Oceanic and Atmospheric Administration

RIN 0648-BD25

Fisheries of the Caribbean, Gulf of Mexico, and South Atlantic; Amendment 39 to the Fishery Management Plan for the Reef Fish Resources of the Gulf of Mexico

AGENCY: National Marine Fisheries Service (NMFS), National Oceanic and Atmospheric Administration (NOAA), Commerce.

ACTION: Notice of Intent (NOI) to prepare a draft environmental impact statement (DEIS); notice of public hearings; request for comments.

SUMMARY: NMFS, Southeast Region, in collaboration with the Gulf of Mexico Fishery Management Council (Council) intends to prepare a DEIS to describe and analyze a range of alternatives for management actions to be included in Amendment 39 to the Fishery Management Plan (FMP) for the Reef Fish Resources of the Gulf of Mexico (Amendment 39). The purpose of this NOI is to inform the public of upcoming opportunities to provide comments on the actions to be addressed in the DEIS, as specified in this notice.

DATES: Written comments on the scope of issues to be addressed in the DEIS must be received by NMFS by June 12, 2013.

ADDRESSES: You may submit comments on this document, identified by “NOAA-NMFS-2013-0078”, by any of the following methods:

• Electronic Submission: Submit all electronic public comments via the Federal e-Rulemaking Portal. Go to www.regulations.gov/#!docketDetail;D=NOAA-NMFS-2013-0078, click the “Comment Now!” icon, complete the required fields, and enter or attach your comments.

• Mail: Submit written comments to Cynthia Meyer, Southeast Regional Office, NMFS, 263 13th Avenue South, St., Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter“N/A” in the required fields if you wish to remain anonymous). Attachments to electronic comments will be accepted in Microsoft Word, Excel, or Adobe PDF file formats only.

FOR FURTHER INFORMATION CONTACT: Cynthia Meyer; phone: (727) 824-5305; email: Cynthia.Meyer@noaa.gov.

SUPPLEMENTARY INFORMATION: Currently, Federal management measures for the recreational harvest of red snapper are consistent for the entire Gulf exclusive economic zone (EEZ). These management measures include a fishing season, bag limit, and minimum size limit. Since 1996, the recreational fishing season for red snapper has become progressively shorter. Shorter seasons have continued despite an annual increase in the quota since 2010, because the quota continues to be harvested in a shorter amount of time.

In Amendment 39, the Council is considering management measures to modify and facilitate management of the recreational red snapper component of the reef fish fishery by reorganizing the Federal fishery management strategy to better account for biological, social, and economic differences among the regions of the Gulf of Mexico (Gulf). Regional management of recreational red snapper in the Gulf would enable regions and their associated communities to specify the optimal management parameters that best meet the needs of their local constituents thereby addressing regional socio-economic concerns. These alternatives will consider regional management for the recreational harvest of red snapper in the Gulf including the delegation of management to the regions and accountability measures necessary to prevent overfishing.

In Amendment 39, the Council is considering regional management as a way to provide greater flexibility in management of recreational red snapper fishing in the Gulf. Regional management refers to allowing regulations to be different for identified regions of the Gulf, in contrast to uniform regulations applied to the entire EEZ. Regionally specific regulations may be more appropriate to the fishing preferences of local fishermen. For example, regulations could be designed to accommodate various tourist seasons or rough weather conditions, thereby optimizing fishing opportunities regionally around the Gulf.

The intent behind regional management is that participating states or regions could design management options to better fit their needs. However, the proposed options must achieve the same conservation goals as the Federal management measures in existence at a given time (i.e., constrain the catches of participating fishermen to the region's allocation of the total recreational quota). Red snapper would remain a federally managed species. The Council and NMFS would continue to oversee management of the stock. This includes continuing to comply with the Magnuson-Stevens Fishery Conservation and Management Act (Magnuson-Stevens Act) and the mandate to ensure the red snapper annual recreational quota is not exceeded and that conservation objectives are achieved. The Council's Scientific and Statistical Committee (SSC) would continue to determine the acceptable biological catch (ABC) for red snapper, and the Council and NMFS would determine the total recreational red snapper quota that could be allocated among regions.

NMFS, in collaboration with the Council, will develop a DEIS to describe and analyze management alternatives to address the management needs described above. For the actions and alternatives, the Council would need to identify the regions, apportion the recreational red snapper quota among the identified regions, and define the management measures that may be modified at the regional level. The regional management measures that are most likely to be modified include the timing (season start and end dates) of the fishing season, structure (e.g., continuous or weekends only) of the fishing season, and closed areas. Modifications to the bag limit and minimum and/or maximum size limits, including options for a slot limit could also be considered. A recreational quota would remain for the entire Gulf and regional accountability measures (AMs) will need to be established. At the regional level, when a regional quota is projected to be reached, red snapper fishing would be closed according to the guiding regional recreational AMs. At the Gulf-wide level, the total recreational quota would also need to be monitored, and when the recreational quota is reached or projected to be reached, red snapper fishing could be closed for the entire Gulf even if a region has remaining quota.

NMFS, in collaboration with the Council, will develop a DEIS to describe and analyze alternatives to address the management needs described above. Those alternatives will include a “no action” alternative for each action.

In accordance with NOAA's Administrative Order 216-6, Section 5.02(c), Scoping Process, NMFS, in collaboration with the Council, has identified preliminary environmental issues as a means to initiate discussion for scoping purposes only. These preliminary issues may not represent the full range of issues that eventually will be evaluated in the DEIS.

After the DEIS associated with Amendment 39 is completed, it will be filed with the Environmental Protection Agency (EPA). After filing, the EPA will publish a notice of availability (NOA) of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before voting to submit the final amendment to NMFS for Secretarial review, approval, and implementation. NMFS will announce in the Federal Register the availability of the final amendment and FEIS for public review during the Secretarial review period, and will consider all public comments prior to final agency action to approve, disapprove, or partially approve the amendment. During Secretarial review, NMFS will also file the FEIS with the EPA and the EPA will publish a NOA for the FEIS in the Federal Register.

NMFS will announce, through a notice published in the Federal Register, all public comment periods on the final amendment, its proposed implementing regulations, and the availability of its associated FEIS. NMFS will consider all public comments received during the Secretarial review period, whether they are on the final amendment, the proposed regulations, or the FEIS, prior to final agency action.

Public Hearings, Times, and Locations

Public comment will be taken at the Council meetings in Pensacola, FL, on June 17-21, 2013, and in San Antonio, TX, on August 26-30, 2013. In addition, public comments will be solicited at Public Hearings which will be scheduled following the June 2013, Council meeting. Exact dates, times, and locations will be announced by the Council and advertised on the Councils Web site: http://www.gulfcouncil.org/. The public will be informed, via a notification in the Federal Register, of the exact times, dates, and locations of future scoping meetings and public hearings for Amendment 39. Comments will also be accepted during the comment periods for the DEIS and NOA for the amendment.

Authority: 16 U.S.C. 1801 et seq.

Dated: May 7, 2013.
James P. Burgess,
Acting Deputy Director, Office of Sustainable Fisheries, National Marine Fisheries Service.

[FR Doc. 2013-11288 Filed 5-10-13; 8:45 am]

BILLING CODE 3510-22-P